DEPARTMENT OF TRANSPORTATION

Federal Aviation Administration

14 CFR Part 71

[Docket No. FAA-2018-1028; Airspace Docket No. 17-ASO-6]

RIN 2120-AA66

Amendment of VOR Federal Airway V-18 in the Vicinity of Talladega, AL

AGENCY: Federal Aviation Administration (FAA), DOT.

ACTION: Final rule.

SUMMARY: This action modifies VHF Omnidirectional Range (VOR) Federal airway V-18, in the vicinity of Talladega, AL. This action is necessary due to the planned decommissioning of the Talladega, AL, VOR/DME navigation aid which provides navigation guidance for segments of the route. Additionally, this action removes the compulsory reporting point requirement for the HEFIN, AL, navigation fix.

DATES: Effective date 0901 UTC, May 21, 2020. The Director of the Federal Register approves this incorporation by reference action under Title 1 Code of Federal Regulations part 51, subject to the annual revision of FAA Order 7400.11 and publication of conforming amendments.

ADDRESSES: FAA Order 7400.11D, Airspace Designations and Reporting Points, and subsequent amendments can be viewed online at https://www.faa.gov/air_traffic/publications/. For further information, you can contact the Rules and Regulations Group, Federal Aviation Administration, 800 Independence Avenue SW, Washington, DC 20591; telephone: (202) 267-8783. The Order is also available for inspection at the National Archives and Records Administration (NARA). For information on the availability of FAA Order 7400.11D at NARA, email: fedreg.legal@nara.gov or go to https://www.archives.gov/federal-register/cfr/ibr-locations.html.

FOR FURTHER INFORMATION CONTACT: Paul Gallant, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the National Airspace System as necessary to preserve the safe and efficient flow of air traffic.

History

The FAA published a notice of proposed rulemaking for Docket No. FAA-2018-1028 in the Federal Register (83 FR 67165; December 28, 2018), amending VOR Federal airway V-18 due to planned decommissioning of the Talladega, AL, VOR/DME navigation aid. Interested parties were invited to participate in this rulemaking effort by submitting written comments on the proposal. No comments were received.

Differences From the NPRM

Subsequent to the issuance of the above NPRM, in a separate action, the FAA amended V-18 due to the planned decommissioning of the Guthrie, TX, VOR/DME (Docket No. FAA-2018-0769; 84 FR 27937; June 17, 2019). That amendment, became effective on August 15, 2019, removed the segments of V-18 between Guthrie, TX, and the Millsap, TX, VORTAC. Consequently, the V-18 description published in the NPRM on December 28, 2018 differs from the airway description in this rule since the Guthrie to Millsap segment has been removed.

Therefore, this final rule amends V-18, by removing the airway segments between the Vulcan, AL, VORTAC, and the Colliers, SC, VORTAC, due to the planned decommissioning of the Talladega, AL, VOR/DME.

In addition, this rule removes the compulsory reporting point requirement for the HEFIN, AL, navigation fix as published in FAA Order 7400.11D. Pursuant to 14 CFR 71.5, Subpart H of FAA Order 7400.11D lists those geographic locations at which the position of an aircraft must be reported to air traffic control (ATC). The FAA determined that ATC no longer has a compulsory requirement for pilots to report crossing the HEFIN fix and removed the requirement from the National Airspace System database. Therefore, an editorial change is being made to remove the HEFIN fix from the compulsory reporting point list in Subpart H—Reporting Points as published in Order 7400.11D. The HEFIN fix will continue to be depicted on aeronautical charts as a non-compulsory reporting point.

VOR Federal airways are published in paragraph 6010(a); and low altitude reporting points are published in paragraph 7001, respectively, of FAA Order 7400.11D dated August 8, 2019, and effective September 15, 2019, which is incorporated by reference in 14 CFR 71.1. The VOR Federal airway and reporting point listed in this document will be subsequently published in, or removed from, the Order.

FAA Order 7400.11, Airspace Designations and Reporting Points, is published yearly and effective on September 15.

Availability and Summary of Documents for Incorporation by Reference

This document amends FAA Order 7400.11D, Airspace Designations and Reporting Points, dated August 8, 2019, and effective September 15, 2019. FAA Order 7400.11D is publicly available as listed in the ADDRESSES section of this document. FAA Order 7400.11D lists Class A, B, C, D, and E airspace areas, air traffic service routes, and reporting points.

The Rule

The FAA is amending Title 14 Code of Federal Regulations (14 CFR) part 71 by amending the description of VOR Federal airway V-18, due to the planned decommissioning of the Talladega, AL, VOR/DME. The airway change is outlined below.

V-18: V-18 currently extends between the Millsap, TX, VORTAC and the Charleston, SC, VORTAC. Due to the planned decommissioning of the Talladega, AL, VOR/DME, the FAA is removing the airway segments between the Vulcan, AL, VORTAC and the Colliers, SC, VORTAC. This results in a gap in the airway between Vulcan, AL, and Colliers, SC. Therefore, the amended V-18 route consists of two separate sections: First, between the Millsap, TX, VORTAC and the Vulcan, AL, VORTAC; and second, after the gap, the airway resumes between the Colliers, SC, VORTAC, and the Charleston, SC, VORTAC.

Area Navigation (RNAV) route T-294 replaces V-18 between the Vulcan, AL, VORTAC and the HEFIN, AL, navigation fix. Alternative routing between Vulcan, AL, and Colliers, SC is available by continuing on T-294 from the HEFIN, AL, fix to the GRANT, GA, fix, then via V-155 to Colliers, then via V-18 to Charleston, SC.

Additionally, this action removes the compulsory reporting point requirement for the HEFIN, AL, fix as published in FAA Order 7400.11D. The HEFIN fix will continue to be depicted on aeronautical charts as a non-compulsory reporting point.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of modifying VOR Federal airway V-18 between Vulcan, AL, and Colliers, SC, qualifies for categorical exclusion under the National Environmental Policy Act and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points). As such, this action is not expected to result in any potentially significant environmental impacts. In accordance with FAA Order 1050.1F, paragraph 5-2 regarding Extraordinary Circumstances, the FAA has reviewed this action for factors and circumstances in which a normally categorically excluded action may have a significant environmental impact requiring further analysis. The FAA has determined that no extraordinary circumstances exist that warrant preparation of an environmental assessment or environmental impact study.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11D, Airspace Designations and Reporting Points, dated August 8, 2019, and effective September 15, 2019, is amended as follows:

Paragraph 6010(a) Domestic VOR Federal Airways.

* * * * *

V-18 [Amended]

From Millsap, TX; Glen Rose, TX; Cedar Creek, TX; Quitman, TX; Belcher, LA; Monroe, LA; Magnolia, MS; Meridian, MS; Crimson, AL; to Vulcan, AL. From Colliers, SC; to Charleston, SC.

* * * * *

Paragraph 7001 Domestic Low Altitude Reporting Points.

HEFIN [Remove]

* * * * *

Issued in Washington, DC, on February 27, 2020.
Scott M. Rosenbloom,
Acting Manager, Rules and Regulations Group.

[FR Doc. 2020-04421 Filed 3-9-20; 8:45 am]

BILLING CODE 4910-13-P